DEPARTMENT OF DEFENSE

Office of the Secretary

[Docket ID DoD-2019-OS-0106]

Privacy Act of 1974; System of Records

AGENCY: Office of the Secretary, DoD.

ACTION: Notice of a modified System of Records.

SUMMARY: The Office of the Secretary of Defense (OSD) is modifying four systems of records: DMDC 11 DoD, Investigative Records Repository; DMDC 12 DoD, Joint Personnel Adjudication System; DMDC 13 DoD, Defense Central Index of Investigations, and DMDC 24 DoD, Defense Information System for Security, by amending the address listed within the Record Access Procedures and Notification Procedures sections of the aforementioned Systems of Records Notices (SORNs). Additionally, the OSD is updating the System Location address for one of the SORNs, DMDC 11 DoD. All four SORNs were reformatted in accordance with Appendix III of Office of Management and Budget Memorandum Circular No. A-108, “Federal Agency Responsibilities for Review, Reporting, and Publication under the Privacy Act,” December 23, 2016.

DATES: These modifications are applicable on September 18, 2019.

FOR FURTHER INFORMATION CONTACT: Ms. Luz D. Ortiz, Chief, Records, Privacy and Declassification Division (RPDD), 1155 Defense Pentagon, Washington, DC 20311-1155, or by phone at (571) 372-0478.

SUPPLEMENTARY INFORMATION: The Defense Manpower Data Center (DMDC) Privacy Office responsible for these systems of records was relocated from Boyers, Pennsylvania to Fort Knox, Kentucky. The address change to the Record Access and Notification Procedures sections of the SORNs will enable individuals to determine if information about themselves is contained in the system and to request access to their records in a timely manner. The System Location address for DMDC 11 DoD was also changed to the Fort Knox address.

DMDC 11 DoD, titled “Investigative Records Repository,” is an automated data system used to securely store, and disseminate Personnel Security Investigations to other Government agencies with investigative or adjudicative authority. To ensure the acceptance or retention of persons with access to classified DoD information, installations or facilities, or granting individuals, including those employed in defense industry, access to classified DoD information, installation, or facility is clearly consistent with national security.

DMDC 12 DoD, titled “Joint Personnel Adjudication System (JPAS),” is a DoD enterprise automated system for personnel security, providing a common, comprehensive medium to record, document, and identify personnel security actions within the Department including submitting adverse information, verification of clearance status (to include grants of interim clearances), requesting investigations, and supporting continuous evaluation activities.

DMDC 13 DoD, titled “Defense Central Index of Investigations (DCII),” is a central database of DoD conducted or sponsored investigations used by DoD law enforcement activities, personnel security adjudicators, and in continuous evaluation of individuals. Also, the system aggregates the results of National Agency Check (NAC) information prior to February 2005 (NAC information after this period is maintained by the Office of Personnel Management as well as other Federal investigative agencies). Records document investigations on file with DoD agencies and the United States Coast Guard. Also, the database provides data query, data management and reporting capabilities on data pertaining to the existence and physical location of criminal and personnel security investigative files.

DMDC 24 DoD, titled “Defense Information System for Security (DISS),” is a DoD enterprise information system for personnel security, providing a common, comprehensive medium to request, record, document, and identify personnel security actions within the Department including: Determinations of eligibility and access to classified information, national security, suitability and/or fitness for employment, and Homeland Security Presidential Directive 12 determination for personal identity verification to gain access to government facilities and systems, submitting adverse information, verification of investigation and/or adjudicative status, support of continuous evaluation and insider threat detection, prevention, and mitigation activities. DISS consists of two applications, the Joint Verification System (JVS) and the Case Adjudication Tracking System (CATS). The DoD Adjudicative Community uses CATS to record eligibility determinations. JVS is used by DoD Security Managers and Industry Facility Security Officers for the purpose of verifying eligibility, recording access determinations, submitting incidents for subsequent adjudication, and visit requests from the field (worldwide).

The OSD is modifying four systems of records by amending the Record Access Procedures and Notification Procedures to reflect a new physical address. The new Record Access and Notification Procedures address for all four SORNs is Department of the Army, Defense Manpower Data Center, 1600 Spearhead Division Avenue, Department 548, Fort Knox, KY 40122-5504. The System Location address for one SORN, DMDC 11 DoD, was also updated to this Fort Knox, KY address.

The OSD notices for systems of records subject to the Privacy Act of 1974, as amended, have been published in the Federal Register and are available from the address in FOR FURTHER INFORMATION CONTACT or at the Defense Privacy, Civil Liberties, and Transparency Division website at http://dpcld.defense.gov.

The proposed systems reports, as required by of the Privacy Act, as amended, were submitted on June 21, 2019, to the House Committee on Oversight and Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

Dated: September 12, 2019.
Aaron T. Siegel,
Alternate OSD Federal Register Liaison Officer, Department of Defense.

SYSTEM NAME AND NUMBER:

Investigative Records Repository, DMDC 11 DoD.

SECURITY CLASSIFICATION:

Classified.

SYSTEM LOCATION:

Department of the Army, Defense Manpower Data Center, 1600 Spearhead Division Avenue, Department 548, AHRC-PSI-DMD, Fort Knox, KY 40122-5504.

SYSTEM MANAGER(S):

Director, Defense Manpower Data Center, 4800 Mark Center Drive, Alexandria, VA 22350-6000. Email: dodhra.dodcmb.dmdc.mbx.webmaster@mail.mil.

* * * * *

RECORD ACCESS PROCEDURES:

Individuals seeking access to information about themselves contained in this system must send written signed inquiries to Department of the Army, Defense Manpower Data Center, 1600 Spearhead Division Avenue, Department 548, AHRC-PSI-DMD, Fort Knox, KY 40122-5504.

Signed written requests must contain the subject's full name, SSN, date and place of birth, a description of the records sought, and a current return address.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

NOTIFICATION PROCEDURES:

Individuals seeking to determine if information about themselves is contained in this system should address written inquiries to: Department of the Army, Defense Manpower Data Center, 1600 Spearhead Division Avenue, Department 548, AHRC-PSI-DMD, Fort Knox, KY 40122-5504.

Signed, written requests should contain the individual's full name, telephone number, street address, email address, and name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

HISTORY

September 30, 2011, 76 FR 60812.

SYSTEM NAME AND NUMBER:

Joint Personnel Adjudication System (JPAS), DMDC 12 DoD.

SECURITY CLASSIFICATION:

Unclassifed.

SYSTEM LOCATION:

Defense Manpower Data Center, DoD Center Monterey Bay, 400 Gigling Road, Seaside, CA 93955-6771.

SYSTEM MANAGER(S):

Director, Defense Manpower Data Center, 4800 Mark Center, Alexandria, VA 22350-6000. Email: dodhra.dodc-mb.dmdc.mbx.webmaster@mail.mil.

* * * * *

RECORD ACCESS PROCEDURES:

Individuals seeking access to information about themselves contained in this system must send written signed inquiries to Department of the Army, Defense Manpower Data Center, 1600 Spearhead Division Avenue, Department 548, AHRC-PSI-DMD, Fort Knox, KY 40122-5504.

Signed written requests must contain the subject's full name, SSN, date and place of birth, a description of the records sought, and a current return address.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

NOTIFICATION PROCEDURES:

Individuals seeking to determine if information about themselves is contained in this system should address written inquiries to: Department of the Army, Defense Manpower Data Center, 1600 Spearhead Division Avenue, Department 548, AHRC-PSI-DMD, Fort Knox, KY 40122-5504.

Signed, written requests should contain the individual's full name, telephone number, street address, email address, and name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

HISTORY:

April 10, 2015, 80 FR 19287.

SYSTEM NAME AND NUMBER:

Defense Central Index of Investigations (DCII), DMDC 13 DoD.

SECURITY CLASSIFICATION:

Unclassified.

SYSTEM LOCATION:

Defense Manpower Data Center, DoD Center Monterey Bay, 400 Gigling Road, Seaside, CA 93955-6771.

SYSTEM MANAGER(S):

Director, Defense Manpower Data Center, 4800 Mark Center Drive, Alexandria, VA 22350-6000. Email: dodhra.dodcmb.dmdc.mbx.webmaster@mail.mil.

* * * * *

RECORD ACCESS PROCEDURES:

Individuals seeking access to information about themselves contained in this system must send written signed inquiries to Department of the Army, Defense Manpower Data Center, 1600 Spearhead Division Avenue, Department 548, AHRC-PSI-DMD, Fort Knox, KY 40122-5504.

Signed written requests must contain the subject's full name, SSN, date and place of birth, a description of the records sought, and a current return address.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

NOTIFICATION PROCEDURES:

Individuals seeking to determine if information about themselves is contained in this system should address written inquiries to: Department of the Army, Defense Manpower Data Center, 1600 Spearhead Division Avenue, Department 548, AHRC-PSI-DMD, Fort Knox, KY 40122-5504.

Signed, written requests should contain the individual's full name, telephone number, street address, email address, and name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

HISTORY:

February 12, 2015, 80 FR 19287.

SYSTEM NAME AND NUMBER:

Defense Information System for Security (DISS), DMDC 24 DoD.

SECURITY CLASSIFICATION:

Unclassified.

SYSTEM LOCATION:

Defense Manpower Data Center (DMDC), DoD Center Monterey Bay, 400 Gigling Road, Seaside, CA 93955-6771.

SYSTEM MANAGER(S):

Director, Defense Manpower Data Center, 4800 Mark Center Drive, Alexandria, VA 22350-6000. Email: dodhra.dodcmb.dmdc.mbx.webmaster@mail.mil.

* * * * *

RECORD ACCESS PROCEDURES:

Individuals seeking access to information about themselves contained in this system must send written signed inquiries to Department of the Army, Defense Manpower Data Center, 1600 Spearhead Division Avenue, Department 548, AHRC-PSI-DMD, Fort Knox, KY 40122-5504.

Signed written requests must contain the subject's full name, SSN, date and place of birth, a description of the records sought, and a current return address.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

NOTIFICATION PROCEDURES:

Individuals seeking to determine if information about themselves is contained in this system should address written inquiries to: Department of the Army, Defense Manpower Data Center, 1600 Spearhead Division Avenue, Department 548, AHRC-PSI-DMD, Fort Knox, KY 40122-5504.

Signed, written requests should contain the individual's full name, telephone number, street address, email address, and name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

* * * * *

HISTORY:

June 15, 2016, 81 FR 39032.

[FR Doc. 2019-20145 Filed 9-17-19; 8:45 am]

BILLING CODE 5001-06-P